DEPARTMENT OF STATE

[Public Notice: 5986]

30-Day Notice of Proposed Information Collection: Form DS-1998, Foreign Service Officer Test Registration Form, OMB Control Number 1405-0008

ACTION: Notice of request for public comment and submission to OMB of proposed collection of information.

SUMMARY: The Department of State has submitted the following information collection request to the Office of Management and Budget (OMB) for approval in accordance with the Paperwork Reduction Act of 1995.

• Title of Information Collection: Foreign Service Officer Test Registration Form.

• OMB Control Number: 1405-0008.

• Type of Request: Extension of a Currently Approved Collection.

• Originating Office: Human Resources, HR/REE/BEX.

• Form Number: DS-1998E.

• Respondents: Registrants for the Foreign Service Officer Test.

• Estimated Number of Respondents: 20,000.

• Estimated Number of Responses: 20,000.

• Average Hours Per Response: 3 hours.

• Total Estimated Burden: 60,000 hours.

• Frequency: On occasion.

• Obligation to Respond: Required to Obtain or Retain a Benefit.

DATES: Submit comments to the Office of Management and Budget (OMB) for up to 30 days from November 8, 2007.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW, Washington, DC 20503.

• Fax: 202-395-6974.

FOR FURTHER INFORMATION CONTACT: You may obtain copies of the proposed information collection and supporting documents from Stephen J. Blake, HR/REE/BEX, SA-1, 2401 E Street, H-518, Washington, DC 20522, who may be reached on 202-261-8898 or at blakesj@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

Individuals registering for the Foreign Service Officer Test will complete a Registration Form that consists of an application form and six personal narrative questions about experience and qualifications. This includes information about their name, age, Social Security Number, contact information, ethnicity, education and work history, military experience, and their knowledge, skills and abilities they would bring to the Foreign Service. The information will be used to prepare and issue admission to the Foreign Service Officer Test, to assess registrants' qualifications for selection as a Foreign Service Officer, to provide data useful for improving future tests, and to conduct research studies based on the test results.

Methodology

Responses can be submitted electronically.

Dated: October 9, 2007.
Ruben Torres,
Executive Director, HR/EX, Department of State.

[FR Doc. E7-21940 Filed 11-7-07; 8:45 am]

BILLING CODE 4710-15-P \